DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 12, 2008 [73 FR 8103].

DATES: Comments must be submitted on or before May 1, 2008.

FOR FURTHER INFORMATION CONTACT: Kenneth Hardie at the National Highway Traffic Safety Administration, Office of Rulemaking (NVS-121), 202-366-6987, 1200 New Jersey Avenue, SE., Room W43-458, Washington, DC 20590.

SUPPLEMENTARY INFORMATION:

National Highway Traffic Safety Administration

Title: Replaceable Light Source Information Collection, 49 CFR Part 564.

OMB Number: 2127-0563.

Type of Request: Extension of a currently approved collection.

Affected Public: Business or other-for-profit organizations

Abstract: The information to be collected is in response to 49 CFR Part 564, “Replaceable Light Source Information.” Manufacturers of modified or original equipment light sources desiring to use newly designed replaceable light sources in headlamps are required to submit manufacturing specifications (dimensional, electrical specification, and marking/designation information) to the agency. After a short agency review to assure completeness, the information is placed in the Part 564—Replacable Light Source Information Docket. The Part 564 Docket is a public docket available for use by any manufacturer who desires to manufacture headlamp light sources for highway motor vehicles. In Federal Motor Vehicle Safety Standard (FMVSS) No. 108; Lamps, reflective devices and associated equipment, Part 564 submissions are referenced as being the source of information regarding the performance and interchangeability information for legal headlamp light sources, whether original equipment or replacement equipment. Thus, the submitted information about headlamp light sources becomes the basis for certification of compliance with FMVSS No. 108.

Estimated Total Annual Burden: 28.

ADDRESSES: Send comments, within 30 days, to the Office of Information and Regulatory Affairs, Office of Management and Budget, 725-17th Street, NW., Washington, DC 20503, Attention NHTSA Desk Officer. Comments are invited on: Whether the proposed collection of information is necessary for the proper performance of the functions of the Department, including whether the information will have practical utility; the accuracy of the Department's estimate of the burden of the proposed information collected; ways to enhance the quality, utility and clarity of the information to be collected; and ways to minimize the burden of the collection of information on respondents, including the use of automated collection techniques or other forms of information technology. A comment to OMB is most effective if OMB receives it within 30 days of publication.

Issued: March 26, 2008.
Stephen R. Kratzke,
Associate Administrator for Rulemaking.

[FR Doc. E8-6629 Filed 3-31-08; 8:45 am]

BILLING CODE 4910-59-P